UNIFIED CARRIER REGISTRATION PLAN

Sunshine Act Meetings

TIME AND DATE: March 2, 2023, 8:00 a.m. to 5:00 p.m., Eastern time.

PLACE: This meeting will take place at the Sheraton Virginia Beach Oceanfront, 3501 Atlantic Avenue, Virginia Beach, VA 23451. The meeting will also be accessible via conference call and via Zoom Meeting and Screenshare. Any interested person may call (i) 1-929-205-6099 (US Toll) or 1-669-900-6833 (US Toll), Meeting ID: 915 0493 1016, to listen and participate in this meeting. The website to participate via Zoom Meeting and Screenshare is https://kellen.zoom.us/meeting/register/tJUod-2hrToqG9IKX1BM_YbB6S5vEnGZwCNk.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

Subcommittee action only to be taken in designated areas on agenda

IV. Mission of the Subcommittee—UCR Enforcement Subcommittee Chair

For Discussion and Possible Subcommittee Action

The UCR Enforcement Subcommittee Chair will lead discussion to establish a mission statement of the Subcommittee. The Subcommittee may consider and take action to establish a mission statement.

V. Subcommittee Goals and Responsibilities—UCR Enforcement Subcommittee Chair

For Discussion and Possible Subcommittee Action

The Subcommittee will discuss the establishment of goals and responsibilities for the Subcommittee. The Subcommittee may consider and take action to establish goals and responsibilities for the Subcommittee.

VI. Review and Discussion of 2022 Enforcement Activities—UCR Enforcement Subcommittee Chair

The Subcommittee will review tools and activities undertaken in 2022 to conduct enforcement activities.

VII. NRS Tools—UCR Enforcement Subcommittee Chair, Seikosoft Representative, DSL Transportation Services, Inc.

The Subcommittee Chair, Seikosoft Representative, and DSL Transportation Services, Inc., will review various tools and reports available in the NRS system that are available to support enforcement activities. As part of this review, the Subcommittee will also look at the current enforcement portal and discuss whether, at this time, there are additional features the Subcommittee would like the enforcement portal to contain.

VIII. Discussion of Data Sources Currently Available to States and Other Helpful Sources—UCR Enforcement Subcommittee Chair

The Subcommittee will identify key tools and sources of UCR data available to states, the differences in availability of these sources between states, and collect information on what would be helpful to provide.

IX. Discussion of Should-Have-Beens—UCR Enforcement Subcommittee Chair, DSL Transportation Services, Inc.

The Subcommittee Chair will review discussions from previous UCR Subcommittee and UCR Board of Directors Meetings regarding the use of Should-Have-Beens (SHBs).

X. Training—UCR Enforcement Subcommittee Chair

The Subcommittee Chair will discuss training opportunities for the Subcommittee and those providing enforcement services for the UCR Plan.

XI. Other Business—UCR Enforcement Subcommittee Chair

The Subcommittee Chair will call for any other items Subcommittee members would like to discuss.

XII. Adjournment—UCR Enforcement Subcommittee Chair

The Subcommittee Chair will adjourn the meeting.

The agenda will be available no later than 5:00 p.m. Eastern time, February 23, 2023 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-04080 Filed 2-23-23; 11:15 am]

BILLING CODE 4910-YL-P